DEPARTMENT OF LABOR

Office of the Secretary

Submission for OMB Review; Comment Request

April 26, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ESA, and PWBA contact Marlene Howze ((202) 219-8904 or by email to Howze-Marlene@dol.gov). To obtain documentation for ETA, MSHA, OSHA, and VETS contact Darrin King ((202) 693-4129 or by E-Mail to King-Darrin@dol.gov).

Comments should be sent to Office of Information and Regulatory Affairs, Attn: OMB Desk Officer for FLS, DM, ESA, ETA, MSHA, OSHA, PWBA, or VETS, Office of Management and Budget, Room 10235, Washington, DC 20503 ((202) 395-7316), within 30 days from the date of this publication in the Federal Register.

The OBM is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Agency: Pension and Welfare Benefits Administration.

Title: Prohibited Transaction Class Exemption 82-63, Compensation to fiduciaries for securities lending services to an employee benefit plan.

Type of Review: Extension of a currently approved collection.

OMB Number: 1210-0062.

Affected Public: Individuals or households; Business or other for-profit; Not-for-profit institutions.

Frequency of Response: On occasion.

Total Respondents: 42,000.

Total Responses: 126,000.

Total Estimated Burden Hours: 3,500 hours.

Total Annualized Capital/Startup Costs: $0.

Total Annual Cost (Operating and Maintenance): $0.

Description: PTE 82-63 allows certain compensation arrangements to be made for the provision by a fiduciary of securities lending services to an employee benefit plan, if the conditions specified in the exemption are met. In the absence of this exemption, certain aspects of these transactions might be prohibited by section 406 of the Employee Retirement Income Security Act. The class exemption has two basic information collection requirements. The first requirement is that the compensation be paid in accordance with a written instrument authorized by a non-lending fiduciary, and the second is that the lending fiduciary furnish the authorizing fiduciary with information needed for the authorizing fiduciary to determine whether the compensation arrangement should be made or renewed.

Agency: Pension and Welfare Benefits Administration.

Title: Prohibited Transaction Class Exemption 91-55, Purchases and Sales of American Eagle Coins.

Type of Review: Extension of a currently approved collection.

OMB Number: 1210-0079.

Record-keeping: Six years.

Affected Public: Individuals or households; Business or other for-profit; Not-for-profit institutions.

Frequency of Response: On occasion.

Total Respondents: 3.

Total Responses: 55,000.

Total Estimated Burden Hours: 2,384 hours.

Total Annualized Capital/Startup Costs: $0.

Total Annual Cost (Operating and Maintenance): $0.

Description: Prohibited Transaction Class Exemption 91-55 permits the purchase and sale of American Eagle Coins between individual retirement accounts (IRA) and authorized purchasers from the United States Mint that also are “disqualified persons” within the meaning of Code section 4975(e)(2), with respect to IRAs. The exemption also describes the circumstances under which an interest-free extension of credit in connection with such sales and purchases is permitted. In the absence of an exemption, such purchases and sales and extensions of credit would be impermissible under the Employee Retirement Income Security Act of 1974 (ERISA). The information collection request includes: record keeping; issuing a confirmation statement after each transaction; and disclosing to the person directing the covered transaction certain information about transactions in Coins.

Ira L. Mills,
Departmental Clearance Officer.

[FR Doc. 01-12844 Filed 5-21-01; 8:45 am]

BILLING CODE 4510-29-M